DEPARTMENT OF THE TREASURY

Internal Revenue Service

26 CFR Part 1

Income Taxes

CFR Correction

In Title 26 of the Code of Federal Regulations, Part 1 (§§ 1.140 to 1.169), revised as of April 1, 2018, on page 88, in § 1.148-1, paragraph (e)(3) is reinstated to read as follows:

§ 1.148-1 Definitions and elections.

* * * * *

(e) * * *

(3) Certain hedges. Investment-type property also includes the investment element of a contract that is a hedge (within the meaning of § 1.148-4(h)(2)(i)(A)) and that contains a significant investment element because a payment by the issuer relates to a conditional or unconditional obligation by the hedge provider to make a payment on a later date. See § 1.148-4(h)(2)(ii) relating to hedges with a significant investment element.

* * * * *

[FR Doc. 2018-11690 Filed 5-29-18; 8:45 am]

BILLING CODE 1301-00-D